DEPARTMENT OF STATE

[Public Notice 8656]

Industry Advisory Group: Notice of Open Meeting

The Industry Advisory Group (IAG) of the Bureau of Overseas Buildings Operations (OBO) will meet on Tuesday, April 8 from 10:00 a.m. until 12:00 p.m. Eastern Daylight Time. The meeting is open to the public and will be held in the Loy Henderson Conference Room of the U.S. Department of State, located at 2201 C Street N.W., (entrance on 23rd Street) Washington, DC. For logistical and security reasons, the public must enter and exit the building using only the 23rd Street entrance.

This committee serves the U.S. government in a solely advisory capacity concerning industry and academia's latest concepts, methods, best practices, innovations, and ideas related to OBO's mission to provide safe, secure, and functional facilities that represent the U.S. government to the host nation and support our staff in the achievement of U.S. foreign policy objectives. These facilities should represent American values and the best in American architecture, engineering, technology, sustainability, art, culture, and construction execution.

The majority of the meeting will be devoted to an exchange of ideas between the Department's senior management and IAG representatives, with reasonable time provided for members of the public to provide comment.

Admittance to the State Department building will be by means of a pre-arranged clearance list. To register for this meeting, please send an email to IAGR@state.gov by Friday, March 28, with the following information: First and last name, company/firm name, date of birth, country of citizenship, and the number and issuing country/state associated with a valid government-issued ID (i.e., U.S. government ID, U.S. military ID, passport, or driver's license). Requests for reasonable accommodation should also be sent to the same email address by March 28. The public may attend this meeting as seating capacity allows. Requests made after that date will be considered, but may not be able to be fulfilled.

Personal data is requested pursuant to Public Law 99-399 (Omnibus Diplomatic Security and Antiterrorism Act of 1986), as amended; Public Law 107-56 (USA PATRIOT Act); and Executive Order 13356. The purpose of the collection is to validate the identity of individuals who enter Department facilities. The data will be entered into the Visitor Access Control System (VACS-D) database.

Please see the Security Records System of Records Notice (State-36) at http://www.state.gov/documents/organization/103419.pdf for additional information.

Please contact Christy Foushee at FousheeCT@state.gov or (703) 875-4131 with any questions.

Dated: March 5, 2014.
Lydia Muniz,
Director, Bureau of Overseas Buildings Operations, U.S. Department of State.

[FR Doc. 2014-05547 Filed 3-12-14; 8:45 am]

BILLING CODE 4710-02-P